DEPARTMENT OF ENERGY

Federal Energy Regulatory Commission

[Docket No. EL06-49-000]

Wisconsin Public Service Corporation, Upper Peninsula Power Company, WPS Energy Services, Inc., WPS Power Development, LLC, Complainant v. Midwest Independent Transmission, System Operator, Inc. and PJM Interconnection, LLC, Respondent; Notice of Complaint

January 31, 2006.

Take notice that on January 30, 2006, Wisconsin Public Service Corporation, Upper Peninsula Power Company, WPS Energy Services, Inc. and WPS Power Development, L.L.C. (WPS Companies) filed a formal complaint against the Midwest Independent Transmission System Operator, Inc and PJM Interconnection, L.L.C. (RTOs) pursuant to section 206 of the Federal Power Act and 18 CFR 385.206, alleging that the RTOs' December 30, 2005 compliance filing in Docket Nos. ER04-375-017 and ER04-375-018 fails to comply with the Commission's orders requiring the filing of status reports on and the actual implementation by the RTOs of a comprehensive Joint and Common Market.

The WPS Companies certify that copies of the complaint were served on the contacts for the Midwest Independent Transmission System Operators, Inc. and PJM Interconnection, LLC.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on February 21, 2006.

Magalie R. Salas,
Secretary.

[FR Doc. E6-1656 Filed 2-7-06; 8:45 am]

BILLING CODE 6717-01-P